ENVIRONMENTAL PROTECTION AGENCY

[EPA-HQ-OPP-2022-0223; FRL-9723-01-OCSPP]

Notice of Receipts of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before May 31, 2022.

ADDRESSES: Submit your comments, identified by docket identification (ID) number EPA-HQ-OPP-2022-0223, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

Submit written withdrawal request by mail to: Registration Division (7502P), Office of Pesticide Programs, Environmental Protection Agency, 1200 Pennsylvania Ave. NW, Washington, DC 20460-0001. ATTN: Christopher Green.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Christopher Green, Registration Division (7502P), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through Regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from registrants to cancel certain pesticide products registered under FIFRA section 3 (7 U.S.C. 136a) or 24(c) (7 U.S.C. 136v(c)). These registrations are listed in sequence by registration number (or company number and 24(c) number) in Table 1 and Table 1A of this unit.

Unless the Agency determines that there are substantive comments that warrant further review of the requests or the registrants withdraw their requests, EPA intends to issue an order in the Federal Register canceling all of the affected registrations.

Table 1—Registrations With Pending Requests for Cancellation
Registration No. | Company No. | Product name | Active ingredients
239-2657 | 239 | Ortho Groundclear Total Vegetation Killer | Glyphosate-isopropylammonium & Imazapyr, isopropylamine salt.
239-2686 | 239 | Ground Clear RTU | Imazapyr, isopropylamine salt & Glyphosate-isopropylammonium.
279-3465 | 279 | F-9559 Insecticide | lambda-Cyhalothrin.
279-3538 | 279 | Nufos 4E | Chlorpyrifos.
279-3551 | 279 | Proaxis CHA | Gamma-Cyhalothrin.
279-3574 | 279 | Proaxis EX | Gamma-Cyhalothrin.
279-3578 | 279 | Fyfanon Plus ULV | Malathion (NO INERT USE) & gamma-Cyhalothrin.
279-3581 | 279 | Bolton Insecticide | Chlorpyrifos & gamma-Cyhalothrin.
279-3582 | 279 | Prolex | Gamma-Cyhalothrin.
279-3598 | 279 | Malathion 851 G/L + Gamma-Cyhalothrin 12.8 G/L EC | Gamma-Cyhalothrin & Malathion (NO INERT USE).
279-9545 | 279 | F9047-2 EC Insecticide | Chlorpyrifos & Zeta-Cypermethrin.
279-9570 | 279 | Gat Lambda 25 CS | Lambda-Cyhalothrin.
279-9572 | 279 | Gat Chlorpyrifos Cs | Chlorpyrifos.
279-9574 | 279 | Chlorpyrifos 42 CS | Chlorpyrifos.
499-367 | 499 | Whitmire PT 275 Dur-O-Cap Microencapsulated Chlorpyrifos | Chlorpyrifos.
499-405 | 499 | Whitmire PT 1920 Total Release Insecticide | Chlorpyrifos.
499-419 | 499 | Duration PT 275 MC Microencapsulated Dursban Liquid Concentrate | Chlorpyrifos.
1381-210 | 1381 | Mystic Z Insecticide | Lambda-Cyhalothrin.
1381-211 | 1381 | Grizzly Z Insecticide | Lambda-Cyhalothrin.
1381-257 | 1381 | Grizzly Too | Lambda-Cyhalothrin.
6836-276 | 6836 | Lonza Dc-101 RTU | Alkyl* dimethyl benzyl ammonium chloride *(50%C14, 40%C12, 10%C16); 1-Decanaminium, N-decyl-N,N-dimethyl-, chloride; 1-Octanaminium, N,N-dimethyl-N-octyl-, chloride & 1-Decanaminium, N,N-dimethyl-N-octyl-, chloride.
7969-144 | 7969 | Frontier Herbicide | Dimethenamid.
7969-147 | 7969 | Frontier 6.0 Herbicide | Dimethenamid.
9688-124 | 9688 | Fungicide M1 | Myclobutanil.
9688-157 | 9688 | Chemsico Aerosol M | Myclobutanil.
9688-158 | 9688 | Chemsico RTU M | Myclobutanil.
9688-160 | 9688 | Chemsico Fungicide Concentrate M6 | Myclobutanil.
9688-165 | 9688 | Chemsico Fungicide Concentrate 3000 | Myclobutanil.
9688-219 | 9688 | Chemsico Lawn Granules 4LF | Lambda-Cyhalothrin.
9688-220 | 9688 | Chemsico Lawn Granules 3LF | Lambda-Cyhalothrin.
34704-917 | 34704 | Isoxaben 75DF Specialty Herbicide | Isoxaben.
34704-968 | 34704 | LPI Iprodione Fungicide | Iprodione.
53883-70 | 53883 | Martin's Insectitabs | Lambda-Cyhalothrin.
53883-260 | 53883 | CSI Lambda 25 CS | Lambda-Cyhalothrin.
53883-261 | 53883 | CSI Lambda 9.7 CS | Lambda-Cyhalothrin.
53883-264 | 53883 | CSI Chlorpyrifos CS | Chlorpyrifos.
53883-292 | 53883 | CSI Lambda-Cyhalothrin Technical | Lambda-Cyhalothrin.
53883-331 | 53883 | CSI Chlorpyrifos 42 CS Insecticide | Chlorpyrifos.
53883-355 | 53883 | CSI Chlorpyrifos 20 CS | Chlorpyrifos.
83222-23 | 83222 | Lambda 25 CS | Lambda-Cyhalothrin.
83402-1 | 83402 | Zestat A-100 | Cetyl pyridinium chloride.
83402-2 | 83402 | Zestat Preservative | Cetyl pyridinium chloride.
86363-11 | 86363 | Bifenchlor | Bifenthrin & Chlorpyrifos.
87373-41 | 87373 | A364.02 | Paraquat dichloride.
87373-112 | 87373 | Paraquat Technical | Paraquat dichloride.
89168-20 | 89168 | Liberty Chlorpyrifos Bifenthrin | Bifenthrin & Chlorpyrifos.
89168-24 | 89168 | Liberty Chlorpyrifos 4E | Chlorpyrifos.
89168-47 | 89168 | Liberty Granular Insecticide | Bifenthrin & Chlorpyrifos.
89459-69 | 89459 | Equil Pyrifos | Chlorpyrifos.
91234-87 | 91234 | A364.01 | Paraquat dichloride.
92061-1 | 92061 | United Disinfectant Wipes | Alkyl* dimethyl 3,4-dichlorobenzyl ammonium chloride *(50%C14, 40%C12, 10%C16); 1-Decanaminium, N-decyl-N,N-dimethyl-, chloride; 1-Octanaminium, N,N-dimethyl-N-octyl-, chloride & 1-Decanaminium, N,N-dimethyl-N-octyl-, chloride.
AZ-190001 | 62719 | Enlist Duo | 2,4-D, Choline salt & Glycine, N-(phosphonomethyl)-, compd. with N-methylmethanamine (1:1).
AZ-200001 | 62719 | GF-3335 | 2,4-D, Choline salt.
CA-050012 | 264 | Buctril 4EC Herbicide | Bromoxynil octanoate & Bromoxynil heptanoate.
ID-000009 | 5481 | Amvac AZA 3% EC | Azadirachtin.
MT-060001 | 400 | Dimilin 2L | Diflubenzuron.
MT-090004 | 70506 | Bifenture EC Agricultural Insecticide | Bifenthrin.
MT-180001 | 66222 | ADA 11280 Insecticide | Acetamiprid & Novaluron.
NC-050004 | 95290 | Curfew | Telone.
ND-090001 | 70506 | Super Tin 4L Fungicide | Fentin hydroxide.
NY-080010 | 70506 | Kraken | Triclopyr, triethylamine salt.
OR-110007 | 62719 | Entrust | Spinosad.
OR-160013 | 62719 | Entrust SC | Spinosad.
TX-120010 | 100 | Gramoxone SL 2.0 | Paraquat dichloride.
UT-180010 | 5481 | Parazone 3SL Herbicide | Paraquat dichloride.
WA-010004 | 5481 | K-Salt Fruit Fix 200 | Potassium 1-naphthaleneacetate.
WA-100005 | 62719 | Stinger | Clopyralid, monoethanolamine salt.
WA-160005 | 279 | Dupont Coragen Insect Control | Chlorantraniliprole.
WA-960002 | 100 | Beacon Herbicide | Primisulfuron-methyl.

Table 1A—Product Registration With Pending Requests for Cancellation
Registration No. | Company No. | Product name | Active ingredients
MT-120005 | 62719 | Entrust | Spinosad.

The registration listed in Table 1A of Unit II, requests the effective date of cancellation to be, March 3, 2022.

Table 2 of this unit includes the names and addresses of record for all registrants of the products in Table 1 and Table 1A of this unit, in sequence by EPA company number. This number corresponds to the first part of the EPA registration numbers of the products listed in this unit.

Table 2—Registrants Requesting Voluntary Cancellation
EPA Company No. | Company name and address
100 | Syngenta Crop Protection, LLC, 410 Swing Road, P.O. Box 18300, Greensboro, NC 27419-8300.
239 | The Scotts Company, d/b/a, The Ortho Group, P.O. Box 190, Marysville, OH 43040.
264 | Bayer CropScience, LP, Agent Name: Bayer CropScience, LLC, 801 Pennsylvania Avenue, Suite 900, Washington, DC 20004.
279 | FMC Corporation, 2929 Walnut Street, Philadelphia, PA 19104.
400 | MacDermid Agricultural Solutions, Inc., Agent Name: UPL NA, Inc., 630 Freedom Business Center, Suite 402, King of Prussia, PA 19406.
499 | BASF Corporation, 26 Davis Drive, P.O. Box 13528, Research Triangle Park, NC 27709-3528.
1381 | Winfield Solutions, LLC, P.O. Box 64589, St. Paul, MN 55164-0589.
5481 | Amvac Chemical Corporation, 4695 Macarthur Court, Suite 1200, Newport Beach, CA 92660-1706.
6836 | Arxada, LLC, 412 Mount Kemble Avenue, Suite 200S, Morristown, NJ 07960.
7969 | BASF Corporation, Agricultural Products, 26 Davis Drive, P.O. Box 13528, Research Triangle Park, NC 27709-3528.
9688 | Chemsico, A Division of United Industries Corp., P.O. Box 142642, St. Louis, MO 63114-0642.
34704 | Loveland Products, Inc., P.O. Box 1286, Greeley, CO 80632-1286.
53883 | Control Solutions, Inc., 5903 Genoa Red Bluff Road, Pasadena, TX 77507.
62719 | Corteva Agriscience, LLC, 9330 Zionsville Road, Indianapolis, IN 46268.
66222 | Makhteshim Agan of North America, Inc., d/b/a, Adama, 3120 Highwoods Blvd., Suite 100, Raleigh, NC 27604.
70506 | UPL NA, Inc., 630 Freedom Business Center, Suite 402, King of Prussia, PA 19406.
83222 | Winfield Solutions, LLC, 1080 County Rd., F West, MS5705, P.O. Box 64589, St. Paul, MN 55164.
83402 | Vertellus, LLC, Agent Name: The Acta Group, L.L.C., 201 N. Illinois St., Suite 1800, Indianapolis, IN 46204.
86363 | Kaizen Agent Name: Lighthouse Product, Services Technologies, LLC, 2411 S Bear Claw Way, Meridian, ID 83642.
87373 | Argite, LLC, Agent Name: Wagner Regulatory Associates, P.O. Box 640, Hockessin, DE 19707-0640.
89168 | Liberty Crop Protection, LLC, 1880 Fall River Dr., #100, Loveland, CO 80538.
89459 | Central Garden & Pet Company, 1501 East Woodfield Road, Suite 200W, Schaumburg, IL 60173.
91234 | Atticus, LLC, Agent Name: Pyxis Regulatory Consulting, Inc., 4110 136th Street Ct, NW, Gig Harbor, WA 98332-9122.
92061 | VRC Technologies, Inc., Agent Name: Mandava Chemical Consulting, 68602 N. Dallas Parkway, Suite 200, Plano, TX 75024.
95290 | Salt Lake Holding, LLC, 2211 H.H. Dow Way, Midland, MI 48674.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

For MT-120005

The registrant has requested the effective date of cancellation to be, March 3, 2022, for MT-120005; therefore, because the Agency has identified no significant potential risk concerns associated with the pesticide product, upon cancellation of the product identified in Table 1A of Unit II, EPA anticipates allowing the registrant to sell and distribute existing stocks of the product identified in Table 1A of Unit II, until March 3, 2023. Thereafter, the registrant will be prohibited from selling or distributing the pesticide identified in Table 1A of Unit II, except for export consistent with FIFRA section 17 (7 U.S.C. 136o) or for proper disposal.

For all other voluntary cancellations listed in Table 1 of Unit II, because the Agency has identified no significant potential risk concerns associated with these pesticide products, upon cancellation of the products identified in Table 1 of Unit II, EPA anticipates allowing registrants to sell and distribute existing stocks of these products for 1 year after publication of the Cancellation Order in the Federal Register. Thereafter, registrants will be prohibited from selling or distributing the pesticides identified in Table 1 of Unit II, except for export consistent with FIFRA section 17 (7 U.S.C. 136o) or for proper disposal.

Persons other than registrants will generally be allowed to sell, distribute, or use existing stocks until such stocks are exhausted, provided that such sale, distribution, or use is consistent with the terms of the previously approved labeling on, or that accompanied, the canceled products.

Authority: 7 U.S.C. 136 et seq.

Dated: April 25, 2022.
Marietta Echeverria,
Acting Director, Registration Division, Office of Pesticide Programs.

[FR Doc. 2022-09131 Filed 4-27-22; 8:45 am]

BILLING CODE 6560-50-P